DEPARTMENT OF VETERANS AFFAIRS

[OMB Control No. 2900-NEW (Veterans Employability Survey)]

Proposed Information Collection Activity: Proposed Collection; Comment Request

AGENCY: Office of Policy, Planning and Preparedness, Department of Veterans Affairs.

ACTION: Notice.

SUMMARY: The Office of Policy, Planning and Preparedness, Department of Veterans Affairs (VA), is announcing an opportunity for public comment on the proposed collection of certain information by the agency. Under the Paperwork Reduction Act (PRA) of 1995, Federal agencies are required to publish notice in the Federal Register concerning each proposed collection of information, including each proposed new collection of information, and allow 60 days for public comment in response to the notice. This notice solicits comments on information needed to determine the factors impacting a claimant discontinuing or interrupting their vocational rehabilitation and employment program plans.

DATES: Written comments and recommendations on the proposed collection of information should be received on or before November 28, 2005.

ADDRESSES: Submit written comments on the collection of information to Susan Krumhaus, Office of Policy, Planning and Preparedness (008A1), Department of Veterans Affairs, 810 Vermont Ave., NW., Washington, DC 20420 or e-mail susan.krumhaus@mail.va.gov. Please refer to “OMB Control No. 2900-NEW (Veterans Employability Survey)” in any correspondence.

FOR FURTHER INFORMATION CONTACT: Susan Krumhaus at (202) 273-5108 or FAX (202) 273-5993.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, the Office of Policy, Planning and Preparedness invites comments on: (1) Whether the proposed collection of information is necessary for the proper performance of VA's functions, including whether the information will have practical utility; (2) the accuracy of VA's estimate of the burden of the proposed collection of information; (3) ways to enhance the quality, utility, and clarity of the information to be collected; and (4) ways to minimize the burden of the collection of information on respondents, including through the use of automated collection techniques or the use of other forms of information technology.

Title: Veterans Employability Survey (VERS).

OMB Control Number: None assigned.

Type of Review: New collection.

Abstract: The purpose of the study is to obtain information on veterans who discontinued or interrupted their Vocational Rehabilitation and Employment (VR&E) Program. VA will use the data to determine the factors impacting the veteran's discontinuation of the program, effect on employability and types of interventions that might enable veterans to stay in the program and to compare this VR&E Program population with veterans who successfully complete the program and with the general veteran population.

Affected Public: Individuals or households.

Estimated Time Per Respondent and Annual Burden: 1,667 hours.

Estimated Average Burden Per Respondent: 20 minutes.

Frequency of Response: One time.

Estimated Number of Respondents: 5,000.

Dated: September 14, 2005.
By direction of the Secretary.
Denise McLamb,
Program Analyst, Records Management Service.

[FR Doc. E5-5197 Filed 9-26-05; 8:45 am]

BILLING CODE 8320-01-P